DEPARTMENT OF ENERGY

Certification of the Radiological Condition of the Chapman Valve in Indian Orchard, MA

AGENCY: U.S. Department of Energy.

ACTION: Notice of certification.

SUMMARY: The Department of Energy (DOE) has completed remedial actions to decontaminate the Chapman Valve site in Indian Orchard, Massachusetts. This property formerly was found to contain quantities of radioactive material from activities conducted for the Atomic Energy Commission's (AEC) Brookhaven National Laboratory (BNL) during the mid-1940s. Based on the analysis of all data collected, DOE has concluded that the property is in compliance with DOE radiological decontamination criteria and standards, and that no radiological restrictions on the use of the property are required.

ADDRESSES: The certification docket is available at the following locations:

U.S. Department of Energy, Public Reading Room, Room 1E-190, Forrestal Building, 1000 Independence Avenue, SW., Washington, DC 20585;

U.S. Department of Energy, DOE Information Center, 475 Oak Ridge Turnpike, Oak Ridge, Tennessee 37831; Springfield Museum and Library, 220 State Street, Springfield, Massachusetts 01103.

FOR FURTHER INFORMATION, CONTACT: Donald Mackenzie, Health Physicist, U.S. Department of Energy, Core Technical Group, EM-23/Cloverleaf Building, 1000 Independence Avenue, SW., Washington, DC 20585-2040. Telephone Number: (301) 903-7426. Fax Number: (301) 903-2385.

SUPPLEMENTARY INFORMATION: The U.S. DOE, Oak Ridge Operations Office (OR), Office of Environmental Management, has conducted remedial action at the Chapman Valve site in Indian Orchard, Massachusetts, under the Formerly Utilized Sites Remedial Action Program (FUSRAP). The objective of the program is to identify and remediate, or otherwise control, sites where residual radioactive contamination remains from activities carried out under contract to the Manhattan Engineer District (MED)/AEC during the early years of the nation's atomic energy program.

In October 1997, the Energy and Water Appropriations Act, 1998 transferred responsibility for management of the FUSRAP program to the U.S. Army Corps of Engineers (U.S. ACE). Completion of the certification process was delayed pending preparation of a Memorandum of Understanding (MOU) between the DOE and the U.S. ACE with regard to completed, remediated sites such as the Chapman Valve property. The MOU between the U.S. DOE and the U.S. ACE regarding Program Administration and Execution of the FUSRAP program was signed by the parties in March 1999. Funding to proceed with the completion of DOE closure documentation for several FUSRAP sites, including the Chapman Valve site, was obtained from the U.S. ACE in late 2000. The closure documentation for these sites will document the cleanup and inform the public of their successful decontamination of radioactive contamination.

The Chapman Valve site was formerly owned and operated by the Chapman Valve Manufacturing Company. In 1948, the company set-aside approximately one-third of an area known as Department 40 in the western end of Building 23 for the machining of uranium rods for the AEC's BNL. Segregation of the area from other parts of the facility was achieved by installing a floor to ceiling wooden partition that was more than 50 feet high. Special modifications to the facility included building shields, quenching tanks, suction systems, cranes, and ductwork. Uranium operations were terminated on November 8, 1948. After the contract was completed, the company had in its possession over 27,000 pounds of metal scrap, oxides, and sweepings. This material was identified for removal several months after contract completion.

The Oak Ridge National Laboratory (ORNL) personnel indicated in a 1991 survey report that the residual uranium contamination found at the Chapman Valve site was typical of MED/AEC operations. This survey indicated that the contamination was limited to the interior of the segregated area within Department 40 and included floors, walls, and overhead beams. Following a review of files, it was concluded there are no indications that work with uranium metal was conducted at the site after the AEC operations were terminated.

In November and December 1994, additional radiological surveys were performed to supplement and refine survey information. Characterization findings confirm the presence of contamination located predominantly in the western end of Building 23. In addition to confirming the ORNL survey results, these findings were in agreement with historical process information obtained during interviews conducted with a former Chapman Valve supervisor. Based on this characterization data, DOE conducted remedial action at the Chapman Valve site from July to September 1995.

Post-remedial action surveys conducted in 1995 have demonstrated, and the DOE has certified, that the subject property is in compliance with the DOE radiological decontamination criteria and standards in effect at the conclusion of remedial action. These standards are established to protect members of the general public and occupants of the site, and to ensure that reasonably foreseeable future use of the site will result in no radiological exposure above applicable guidelines. Accordingly, this property is released from the FUSRAP program. These findings are supported by the DOE's Certification Docket for the Remedial Action Performed at the Chapman Valve site in Indian Orchard, Massachusetts. The DOE makes no representation regarding the condition of the site as a result of activities conducted subsequent to DOE's post-remedial action surveys.

The Certification Docket will be available for review between 9 a.m. and 4 p.m., Monday through Friday (except Federal holidays), in the DOE Public Reading Room located in 1E-190 of the Forrestal Building, 1000 Independence Avenue, SW., Washington, DC. Copies of the Certification Docket will also be available in the DOE Public Reading Room, U.S. Department of Energy, Oak Ridge Operations Office, 200 Administration Road, Oak Ridge, Tennessee, and the Springfield Museum and Library, 200 State Street, Springfield, Massachusetts.

The DOE, through the Acting Office Director, Core Technical Group (EM-23), Deputy Assistant Secretary for Environmental Cleanup and Acceleration (EM-20), the Assistant Secretary for the Office Environmental Management (EM), has issued the following statement:

Statement of Certification: Chapman Valve Site in Indian Orchard, Massachusetts

The DOE, the Oak Ridge Operations Office, the Office of Environmental Management, the Oak Ridge Reservation, the Remediation Management Group, and the U.S. DOE Office of Environmental Management (EM), Core Technical Group (EM-23), has reviewed and analyzed the radiological data obtained following remedial action at the Chapman Valve site in Indian Orchard, Massachusetts, (Deed Book 2891, Page 53, in the records of Hampden County, Massachusetts). Based on the analysis of all data collected, including post-remedial action surveys, DOE certifies that any residual contamination remaining onsite at the time remedial actions were completed falls within DOE radiological decontamination criteria and standards for use of the property without radiological restrictions. This certification of compliance provides assurance that reasonably foreseeable future use of the site will result in no radiological exposure above DOE radiological criteria and standards for protecting members of the general public and occupants of the property.

Property owned by: The Crane Company, 100 First Stamford Place, Stamford, Connecticut 06902.

Issued in Germantown, Maryland, on January 14, 2004.
Robert Goldsmith,
Director, Core Technical Group, Environmental Cleanup and Acceleration, Office of Environmental Management.

[FR Doc. 04-1203 Filed 1-20-04; 8:45 am]

BILLING CODE 6450-01-P